FEDERAL TRADE COMMISSION

Agency Information Collection Activities; Proposed Collection; Comment Request; Extension

AGENCY: Federal Trade Commission.

ACTION: Notice.

SUMMARY: In accordance with the Paperwork Reduction Act of 1995 (“PRA”), the Federal Trade Commission (“FTC” or “Commission”) is seeking public comment on its proposal to extend for an additional three years the Office of Management and Budget clearance for information collection requirements pertaining to the Commission's administrative activities, consisting of: responding to applications to the Commission pursuant to the Commission's Rules of Practice (Parts 1 and 4); the FTC's consumer reporting systems; and the FTC's program evaluation activities. The current clearance expires on June 30, 2024.

DATES: Comments must be filed by May 28, 2024.

ADDRESSES: Interested parties may file a comment online or on paper, by following the instructions in the Request for Comment part of the SUPPLEMENTARY INFORMATION section below. Write “Administrative Activities, PRA Comment, P085405,” on your comment, and file your comment online at https://www.regulations.gov by following the instructions on the web-based form. If you prefer to file your comment on paper, mail your comment to the following address: Federal Trade Commission, Office of the Secretary, 600 Pennsylvania Avenue NW, Suite CC-5610 (Annex J), Washington, DC 20580.

FOR FURTHER INFORMATION CONTACT: G. Richard Gold, Attorney, Office of the General Counsel, Federal Trade Commission, (202) 326-3355, rgold@ftc.gov.

SUPPLEMENTARY INFORMATION:

Title of Collection: FTC Administrative Activities.

OMB Control Number: 3084-0169.

Type of Review: Extension of a currently approved collection.

Affected Public: Private Sector: Businesses and other for-profit entities.

Estimated Annual Burden Hours: 1,414,080 hours.

Estimated Annual Labor Costs: $21,600.

Discussion

Pursuant to its Rules of Practice, the Commission collects information to carry out its administrative responsibilities. For example, any person, partnership, or corporation may request advice from the Commission or FTC staff regarding a course of action the requester contemplates. The Commission's rules require requesters to provide the information necessary to facilitate resolution of the requests, including information on the question to be resolved, the identity of the companies or persons involved, and other material facts. See FTC Rule 1.2, 16 CFR 1.2. As another example, the FTC's ethics regulations require former employees who are seeking ethical clearance to participate in FTC matters to submit screening affidavits to facilitate resolution of their requests. See FTC Rule 4.1(b), 16 CFR 4.1(b). Requests to participate must include, among other things, a description of the proceeding in which participation is contemplated; the name of the Commission office or division in which the former employee was employed and the position the employee occupied; and a statement whether, while employed by the Commission, the former employee participated in any proceeding or investigation concerning the same company, individual, or industry currently involved in the matter in question. These requirements prevent the improper use of confidential nonpublic information acquired while working at the FTC. The Commission's Rules of Practice also authorize outside parties to request employee testimony, through compulsory process or otherwise, and to request documentary material through compulsory process in cases or matters to which the agency is not a party. See FTC Rule 4.11(e), 16 CFR 4.11(e). These rules require persons seeking testimony or material from the Commission to submit a statement in support of the request setting forth the party's interest in the case or matter, the relevance of the desired testimony or material, and a discussion of whether it is reasonably available from other sources.

The Commission receives approximately 60 such requests annually. Staff estimates respondents will incur, on average, approximately 2 hours of burden to submit a request, resulting in a cumulative 120 burden hours per year (60 requests × 2 burden hours). Based on an estimated average wage of $150/hour for executive and attorney wages, staff estimates a total annual cost burden of $18,000 (120 hours × $150). Staff estimates that requesters would incur no capital, start-up, operation, maintenance, or other similar costs associated with submitting covered requests.

The FTC also allows consumers to report fraud, identity theft, National Do Not Call Registry violations, and other violations of law through telephone hotlines and three online consumer report forms. Consumers may call a hotline phone number or log on to the FTC's website to report violations using the applicable reporting forms. The provision of this information is voluntary. The FTC also conducts customer satisfaction surveys regarding the support that the Commission's Consumer Response Center provides to consumers to obtain information about the overall effectiveness of the call center and online complaint intake forms. This information assists Bureau of Consumer Protection staff in carrying out the agency's consumer protection mission. The FTC is also mandated by Congress under the Identity Theft and Assumption Deterrence Act of 1998, 18 U.S.C. 1001 et seq., to serve as the central clearinghouse for identity theft complaints.

As shown below this paragraph, the time necessary to file a consumer report or participate in related customer satisfaction surveys will vary. FTC staff estimates approximately 9,705,304 respondents will annually submit information pursuant to these processes. The time that each respondent will need to spend will depend on the type of consumer report being filed or the type of survey being filled out, as well as the method of participation (phone, online, web chat). Aggregated across the different types of activities, FTC staff estimates that the associated burden will be 1,413,936 hours per year over the course of the three-year clearance. The cost per respondent to file a complaint is negligible. Participation is voluntary and will not require any labor expenditures by respondents. In addition, there are no capital, start-up, operation, maintenance, or other similar costs for respondents.

Activity | Number of respondents | Number of minutes/ activity | Total hours
Misc. and fraud-related consumer complaints (phone) | 476,175 | 8.7 | 69,045
Identity theft complaints (phone) | 293,597 | 7.2 | 35,232
CRC Customer Satisfaction Questionnaire (phone) | 13,376 | 4.3 | 959
CRC Customer Satisfaction Questionnaire (online)—ReportFraud.ftc.gov | 22,241 | 3.1 | 1,149
CRC Customer Satisfaction Questionnaire (online)—IdentityTheft.gov | 4,728 | 3.1 | 244
Misc. and fraud-related consumer complaints (online) | 4,364,003 | 5.16 | 375,304
Identity theft complaints (online) | 3,119,075 | 9.8 | 509,449
Misc. and fraud-related consumer complaints (Web chat) | 77,614 | 5.57 | 7,205
Identity theft complaints (Web chat) | 104,282 | 4.6 | 7,995
Misc. and fraud-related consumer complaints (Live Web chat) | 3,950 | 9.6 | 632
Identity theft complaints (Live Web chat) | 23,934 | 9.9 | 3,949
Do-Not-Call related consumer complaints (phone) | 1,022,325 | 3 | 51,116
Do-Not-Call related consumer complaints (online) | 8,473,199 | 2.5 | 353,050
Totals | 9,705,304 |  | 1,413,936

The FTC also conducts evaluations of the effectiveness of its merger divestiture orders. Following an order of divestiture in a merger matter, the FTC's Bureau of Competition's Compliance Division conducts brief calls with acquirers of divested assets to assess the effectiveness of these divestitures. In 2023, 2022, and 2021, the Commission issued 9, 14, and 6 orders, respectively, and a few required divestitures. For interviews with purchasers of divested assets, each interview typically takes less than one hour to complete. FTC staff estimates that it takes each participant no more than one hour to prepare for the interview. Accordingly, staff estimates that, for each interview, two individuals (typically a company executive and an attorney) will devote two hours each (one hour preparing and one hour participating) to responding to questions for a total of four hours. Assuming that staff evaluates approximately 4 divestitures per year during the three-year clearance period, staff estimates that the total hours burden will be 16 hours per year (4 divestiture reviews × 4 hours for preparing and participating). Staff may include approximately two monitor interviews a year, which would add at most 4 hours (2 interviews × 2 hours for preparing and participating). Interviews of monitors typically involve only the monitor and take approximately one hour to complete with no more than one hour to prepare for the interview. At most, this yields a total burden of 24 burden hours per year. Staff estimates that the total annual labor cost, based on an estimated average of $150/hour for executive and attorney wages, would be $3,600 (24 hours × $150). There are no capital, start-up, operation, maintenance, or other similar costs to respondents.

Request for Comment

Pursuant to Section 3506(c)(2)(A) of the PRA, the FTC invites comments on: (1) whether the disclosure and recordkeeping requirements are necessary, including whether the information will be practically useful; (2) the accuracy of our burden estimates, including whether the methodology and assumptions used are valid; (3) ways to enhance the quality, utility, and clarity of the information to be collected; and (4) ways to minimize the burden of the collection of information.

For the FTC to consider a comment, we must receive it on or before May 28, 2024. Your comment, including your name and your state, will be placed on the public record of this proceeding, including the https://www.regulations.gov website.

You can file a comment online or on paper. Due to heightened security screening, postal mail addressed to the Commission will be subject to delay. We encourage you to submit your comments online through the https://www.regulations.gov website.

If you file your comment on paper, write “Administrative Activities, PRA Comment, P085405,” on your comment and on the envelope, and mail it to the following address: Federal Trade Commission, Office of the Secretary, 600 Pennsylvania Avenue NW, Suite CC-5610 (Annex J), Washington, DC 20580.

Because your comment will become publicly available at https://www.regulations.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by section 6(f) of the FTC Act, 15 U.S.C. 46(f), and FTC Rule 4.10(a)(2), 16 CFR 4.10(a)(2)—including, in particular, competitively sensitive information, such as costs, sales statistics, inventories, formulas, patterns, devices, manufacturing processes, or customer names.

Comments containing material for which confidential treatment is requested must (1) be filed in paper form, (2) be clearly labeled “Confidential,” and (3) comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted publicly at www.regulations.gov, we cannot redact or remove your comment unless you submit a confidentiality request that meets the requirements for such treatment under FTC Rule 4.9(c), and the General Counsel grants that request.

The FTC Act and other laws that the Commission administers permit the collection of public comments to consider and use in this proceeding as appropriate. The Commission will consider all timely and responsive public comments that it receives on or before May 28, 2024. For information on the Commission's privacy policy, including routine uses permitted by the Privacy Act, see https://www.ftc.gov/site-information/privacy-policy.

Josephine Liu,
Assistant General Counsel for Legal Counsel.

[FR Doc. 2024-06351 Filed 3-25-24; 8:45 am]

BILLING CODE 6750-01-P